DEPARTMENT OF TRANSPORTATION

Federal Motor Carrier Safety Administration

[Docket No. FMCSA-2008-0321]

Agency Information Collection Activities; Revision of Two Currently Approved Information Collection Requests: OMB Control Numbers 2126-0032 and 2126-0033 (Financial and Operating Statistics for Motor Carriers of Property)

AGENCY: Federal Motor Carrier Safety Administration (FMCSA), DOT.

ACTION: Notice and request for comments.

SUMMARY: In accordance with the Paperwork Reduction Act of 1995, this notice announces FMCSA's plan to submit to the Office of Management and Budget (OMB) its request to revise two currently approved information collection requests (ICRs) as follows: (1) OMB Control Number 2126-0032 entitled, “Annual Report of Class I and Class II Motor Carriers of Property (formerly OMB 2139-0004),” and (2) OMB Control Number 2126-0033 entitled, “Quarterly Report of Class I Motor Carriers of Property (formerly OMB 2139-0002).” These ICRs are necessary to ensure that motor carriers comply with FMCSA's financial and operating statistics requirements at chapter III of title 49 CFR part 369 entitled, “Reports of Motor Carriers.” The agency invites public comment on this information collection request.

DATES: We must receive your comments on or June 8, 2009.

ADDRESSES: You may submit comments bearing the Federal Docket Management System (FDMS) Docket Number FMCSA-2008-0321 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington DC, 20590-0001, between 9 a.m. and 5 p.m., e.t., Monday through Friday, except Federal Holidays.

• Fax: 1-202-493-2251.

Each submission must include the Agency name and the docket number for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC 20590-0001, between 9 a.m. and 5 p.m., Monday through Friday, except Federal holidays. The FDMS is available 24 hours each day, 365 days each year. If you want acknowledgement that we received your comments, please include a self-addressed, stamped envelope or post card or print the acknowledgement page that appears after submitting them on-line.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19476). This information is also available at http://docketsinfo.dot.gov.

FOR FURTHER INFORMATION CONTACT: Ms. Vivian Oliver, Office of Research and Information Technology, Department of Transportation, Federal Motor Carrier Safety Administration, West Building 6th Floor, 1200 New Jersey Avenue, SE., Washington, DC 20590-0001. Telephone: 202-366-2974; e-mail Vivian.Oliver@dot.gov.

SUPPLEMENTARY INFORMATION: Background: The Annual Report of Class I and Class II Motor Carriers of Property (Form M) and the Quarterly Report of Class I Motor Carriers of Property (Form QFR) are mandated reporting requirements for all for-hire motor carriers. See 49 U.S.C. 14123; and implementing FMCSA regulations at 49 CFR part 369. The Secretary of Transportation (Secretary) has exercised his discretion under section 14123 to also require Class I property carriers (including dual-property carriers), Class I household goods carriers and Class I passenger carriers to file quarterly reports. Motor carriers (including interstate and intrastate) subject to the Federal Motor Carrier Safety Regulations are classified on the basis of their gross carrier operating revenues.¹

¹ For purposes of the F&OS program, carriers are classified into the following three groups: (1) Class I carriers are those having annual carrier operating revenues (including interstate and intrastate) of $10 million or more after applying the revenue deflator formula as set forth in Note A of 49 CFR 369.2; (2) Class II carriers are those having annual carrier operating revenues (including interstate and intrastate) of at least $3 million, but less than $10 million after applying the revenue deflator formula as set forth in 49 CFR 369.2; and (3) Class III carriers are those having annual carrier operating revenues (including interstate and intrastate) of less than $3 million after applying the revenue deflator formula as set forth in Note A of 49 CFR 369.2.

Under the F&OS program, FMCSA collects from Class I and Class II property carriers balance sheet and income statement data along with information on safety needs, tonnage, mileage, employees, transportation equipment, and other related data. FMCSA may also ask carriers to respond to surveys concerning their operations. The data and information collected would be made publicly available and used by FMCSA to determine a motor carrier's compliance with the F&OS program requirements prescribed at chapter III of title of 49 CFR part 369.

The regulations were formerly administered by the Interstate Commerce Commission and later transferred to the Secretary on January 1, 1996, by section 103 of the ICC Termination Act of 1995 (Pub. L.104-88, 109 Stat. 803 (Dec. 29, 1995)), now codified at 49 U.S.C. 14123. On September 30, 1998, the Secretary delegated and transferred the authority to administer the F&OS program to the former Bureau of Transportation Statistics (BTS), now part of the Research and Innovative Technology Administration (RITA), to former chapter XI, subchapter B of 49 CFR part 1420 (63 FR 52192).

On September 29, 2004, the Secretary transferred the responsibility for the F&OS program from BTS to FMCSA in the belief that the program was more aligned with FMCSA's mission and its other motor carrier responsibilities (69 FR 51009). On August 10, 2006, the Secretary published a final rule (71 FR 45740) that transferred and redesignated certain motor carrier financial and statistical reporting regulations of BTS, that were formerly located at chapter XI, subchapter B of title 49 CFR part 1420, to FMCSA under chapter III of title 49 CFR part 369.

Title: Annual Report of Class I and Class II Motor Carriers of Property (formerly OMB Control Number 2139-0004).

New OMB Control Number: 2126-0032.

Type of Request: Revision of a currently-approved information collection.

Respondents: Class I and Class II Motor Carriers of Property.

Estimated Number of Respondents: 372 (per year).

Estimated Time per Response: 9 hours.

Expiration Date: June 30, 2009.

Frequency of Response: Annually.

Estimated Total Annual Burden: 3,348 hours [372 respondents × 9 hours to complete form = 3,348].

Title: Quarterly Report of Class I Motor Carriers of Property (formerly OMB Control Number 2139-0002).

New OMB Control Number: 2126-0033.

Type of Request: Revision of a currently-approved information collection.

Respondents: Class I Motor Carriers of Property.

Estimated Number of Respondents: 120.

Estimated Time per Response: 1.8 hours (27 minutes per quarter).

Expiration Date: June 30, 2009.

Frequency of Response: Quarterly.

Estimated Total Annual Burden: 216 hours [120 respondents × 1.8 hours to complete forms = 216].

Public Comments Invited: You are asked to comment on any aspect of this information collection, including: (1) Whether the proposed information collection is necessary for FMCSA to perform its mission; (2) the accuracy of the estimated burden; (3) ways for FMCSA to enhance the quality, usefulness, and clarity of the collected information; and (4) ways that the burden could be minimized without reducing the quality of the collected information. The agency will summarize and/or include your comments in the request for OMB's clearance of this information collection.

Issued on: March 31, 2009.
Terry Shelton,
Associate Administrator for Research and Information Technology.

[FR Doc. E9-7908 Filed 4-7-09; 8:45 am]

BILLING CODE 4910-EX-P